DEPARTMENT OF JUSTICE

Federal Bureau of Prisons

Notice of Cancellation of the Environmental Impact Statement for the Criminal Alien Requirement 9

AGENCY: U.S. Department of Justice, Federal Bureau of Prisons.

ACTION: Notice of Cancellation of the Environmental Impact Statement.

SUMMARY: The Department of Justice, Federal Bureau of Prisons (BOP), announces that it is has decided to discontinue preparation of the Environmental Impact Statement (EIS) for the Criminal Alien Requirement 9 project (CAR 9). This notice briefly describes the history of the CAR 9 EIS.

SUPPLEMENTARY INFORMATION:

Background

In accordance with the National Environmental Policy Act (NEPA) of 1969, the Council of Environmental Quality Regulations (40 CFR parts 1500-1508), and the Department of Justice procedures for implementing NEPA (28 CFR 61), the BOP prepared a Draft Environmental Impact Statement (DEIS) for the proposed contract with one or more private contractor's to house up to 1,889 federal, low-security, adult male, non-U.S. citizen, criminal aliens at contractor-owned, contractor-operated correctional facilities located in Baldwin, Michigan or Lake City, Florida. The BOP began the EIS process with a Notice of Intent published in the Federal Register on June 19, 2009. Public scoping meetings were then held in Lake City, Florida on June 30, 2009, and in Baldwin, Michigan on July 7, 2009. Following the close of the public scoping period, the DEIS was developed. A Notice of Availability of the DEIS was placed in the Federal Register on November 6, 2009, initiating the 45-day public comment period which closed on December 21, 2009. Public Hearings were held November 17, 2009 in Lake City, Florida, and November 24, 2009 in Baldwin, Michigan.

This notice announces the decision by the BOP to cancel the DEIS following cancellation of the underlying proposed contracting action due to lack of funding.

Questions Concerning This Matter May Be Directed To: Richard A. Cohn, Chief, Capacity Planning and Site Selection Branch, or Issac J. Gaston, Site Selection Specialist, Federal Bureau of Prisons, 320 First Street, NW., Washington, DC 20534, Tel: 202-514-6470, Fax: 202-616-6024/E-mail: racohn@bop.gov or igaston@bop.gov.

Dated: March 12, 2010.
Richard A. Cohn,
Chief, Capacity Planning and Site Selection Branch.

[FR Doc. 2010-5939 Filed 3-18-10; 8:45 am]

BILLING CODE P